DEPARTMENT OF VETERANS AFFAIRS

[OMB Control No. 2900-(Center for Verification and Evaluation [CVE] Site Inspection)]

Agency Information Collection—(CVE Site Inspection) Under OMB Review

AGENCY: Office of Small and Disadvantaged Business Utilization (OSDBU), Department of Veterans Affairs.

ACTION: Notice.

SUMMARY: In compliance with the Paperwork Reduction Act (PRA) of 1995 (44 U.S.C. 3501-3521), this notice announces that OSDBU, Department of Veterans Affairs, has submitted the collection of information abstracted below to the Office of Management and Budget (OMB) for review and comment. The PRA submission describes the nature of the information collection and its expected cost and burden; it includes the actual data collection instrument.

DATES: Written comments and recommendations on the proposed collection of information should be received on or before December 26, 2014.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900—CVE Site Inspection” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900—CVE Site Inspection.”

SUPPLEMENTARY INFORMATION: Title: CVE Site Inspection.

OMB Control Number: 2900—NEW.

Type of Review: New collection.

Abstract: OSDBU and CVE protect the integrity and validity of VA's Veterans First Contracting Program by conducting a Risk Mitigation Program. This program helps to ensure that only eligible firms who meet the criteria of 38 Code of Federal Regulation (CFR) Part 74 are entered into the Vendor Information Pages (VIP) database. Service Disabled Veteran Owned Small Business (SDVOSB) and Veteran Owned Small Business (VOSB) participating of this program are either randomly selected for Post-verification Site Visit Audits or based upon risk assessment. OSDBU needs to determine the effectiveness of the site inspections that are part of the CVE Verification Program/Risk Mitigation, and to learn about the participants' experiences and satisfaction levels.

An agency may not conduct or sponsor, and a person is not required to respond to a collection of information unless it displays a currently valid OMB control number. The Federal Register Notice with a 60-day comment period soliciting comments on this collection of information was published on August 29, 2014, at pages 51652-51653.

Affected Public: Service-disabled Veteran-owned small business (SDVOSB) owners and Veteran-owned small business (VOSB) owners that have gone through the verification process.

Estimated Annual Burden: 125 hours.

Estimated Average Burden per Respondent: 5 minutes.

Frequency of Response: Every other year (the verification status lasts for 2 years).

Estimated Number of Respondents: 125 per month (1,500 per year).

Dated: November 20, 2014.
By direction of the Secretary.
Crystal Rennie,
Department Clearance Officer, Department of Veterans Affairs.

[FR Doc. 2014-27854 Filed 11-24-14; 8:45 am]

BILLING CODE 8320-01-P